DEPARTMENT OF DEFENSE

Office of the Secretary

[Transmittal No. 15-66]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 15-66 with attached Policy Justification.

Dated: October 23, 2015.
Aaron Siegel,
Alternate OSD Federal Register Liaison Officer, Department of Defense.

BILLING CODE 5001-06-P

BILLING CODE 5001-06-C

Transmittal No. 15-66

Notice of Proposed Issuance of Letter of Offer Pursuant to Section 36(b)(1) of the Arms Export Control Act, as amended

(i) Prospective Purchaser: Saudi Arabia

(ii) Total Estimated Value:

Major Defense Equipment * | $312 million
Other | $183 million
TOTAL | $495 million

(iii) Description and Quantity or Quantities of Articles or Services under Consideration for Purchase:

Major Defense Equipment (MDE):

Nine (9) UH-60M Black Hawk Utility Helicopters

Twenty-one (21) T700-GE-701D Engines (eighteen (18) installed and three (3) spares)

Twenty (20) Embedded Global Positioning Systems with Inertial Navigation System (GPS/INS) (eighteen (18) installed and two (2) spares)

Twelve (12) AN/AAR-57, Common Missile Warning Systems (CMWS) (nine (9) installed and three (3) spares)

Twenty (20) M240H 7.62mm Machine Guns

Also included are the following non-MDE items and support: Aircraft Survivability Equipment; M134 Miniguns; Electro-optical Infrared (EO/IR) system; Dual Mode (normal light/infrared) Controllable Search Lights; Fast Rope Insertion/Extraction System (FRIES); External Electric Hoists; Internal Auxiliary Fuel Tank Systems (IAFS); Dual Patient Litter System; Ballistic Armor Protection System; aircraft warranty; air worthiness support; spare and repair parts; communications equipment; personnel training and training equipment; site surveys; tool and test equipment; ground support equipment; repair and return; publications and technical documentation; Quality Assurance Team (QAT); U.S. Government and contractor engineering, technical and logistics support services; and other related elements of logistics and program support.

(iv) Military Department: Army (ZAD)

(v) Prior Related Case, if any:

SR-B-VTW, $372M, 12 Feb 08

SR-B-VNK, $133M, 17 Dec 90

SR-B-VJB, $152M, 30 May 80

(vi) Sales Commission, Fee, etc., Paid, Offered, or Agreed to be Paid: None

(vii) Sensitivity of Technology Contained in the Defense Article or Defense Services Proposed to be Sold: See Attached Annex.

(viii) Date Report Delivered to Congress: 13 Oct 2015

* as defined in Section 47(6) of the Arms Export Control Act.

POLICY JUSTIFICATION

Kingdom of Saudi Arabia—UH-60M Black Hawk Utility Helicopters

The Government of Saudi Arabia has requested a possible sale of:

Major Defense Equipment (MDE):

Nine (9) UH-60M Black Hawk Utility Helicopters

Twenty-one (21) T700-GE-701D Engines (eighteen (18) installed and three (3) spares)

Twenty (20) Embedded Global Positioning Systems with Inertial Navigation System (GPS/INS) (eighteen (18) installed and two (2) spares)

Twelve (12) AN/AAR-57, Common Missile Warning Systems (CMWS) (nine (9) installed and three (3) spares)

Twenty (20) M240H 7.62mm Machine Guns

Also included are the following non-MDE items and support: Aircraft Survivability Equipment; M134 Miniguns; Electro-optical Infrared (EO/IR) system; Dual Mode (normal light/infrared) Controllable Search Lights; Fast Rope Insertion/Extraction System (FRIES); External Electric Hoists; Internal Auxiliary Fuel Tank Systems (IAFS); Dual Patient Litter System; Ballistic Armor Protection System; aircraft warranty; air worthiness support; spare and repair parts; communications equipment; personnel training and training equipment; site surveys; tool and test equipment; ground support equipment; repair and return; publications and technical documentation; Quality Assurance Team (QAT); U.S. Government and contractor engineering, technical and logistics support services; and other related elements of logistics and program support. The estimated cost is $495 million.

The proposed sale will make a positive contribution to the foreign policy and national security objectives of the United States by helping to improve the security of an important regional partner that has been, and continues to be, a significant U.S. partner for political stability and economic progress in the Middle East.

The Royal Saudi Land Forces Aviation Command (RSLFAC) plans to use these helicopters for search and rescue, disaster relief, humanitarian support, counterterrorism, and combat operations.

The proposed sale will not introduce new technology to or alter the basic military balance in the region.

The principal contractors will be Sikorsky Aircraft Company in Stratford, Connecticut; and General Electric Aircraft Company (GEAC) in Lynn, Massachusetts. There are no known offset agreements in connection with this potential sale.

Implementation of this sale will require an estimated forty (40) to sixty (60) U.S. Government and contractor representatives to travel to Saudi Arabia for up to sixty (60) months for equipment de-processing, fielding, system checkout, training, and technical logistics support.

There will be no adverse impact on U.S. defense readiness as a result of this proposed sale.

Transmittal No. 15-66

Notice of Proposed Issuance of Letter of Offer Pursuant to Section 36(b)(1) of the Arms Export Control Act

Annex Item No. vii

(vii) Sensitivity of Technology:

1. The UH-60M Black Hawk Utility Helicopter is a medium lift aircraft which includes two T700-GE-701D Engines and an advanced cockpit that features four multi-function displays, four-axis coupled flight director, digital map, and Dual Embedded Global Positioning System/Inertial Navigation System (GPS/INS) (EGI).

a. Embedded Global Positioning System/Inertial Navigation System (GPS/INS) (EGI)—The EGI is a Selective Availability Anti-Spoofing Module (SAASM) based navigation platform that combines an inertial sensor assembly with a fixed reception pattern antenna GPS receiver. The EGI system is the primary source for position information and is UNCLASSIFIED. The GPS crypto variables needed for the highest GPS accuracy are classified up to SECRET.

b. AN/AAR-57 Common Missile Warning System (CMWS)—The CMWS detects threat missiles in flight, evaluates potential false alarms, declares validity of threat and selects the appropriate Infrared Countermeasure (IRCM). Each platform includes: Electro-Optical Missile Sensors, an Electronic Control Unit (ECU), Sequencer, and the Improved Countermeasures Dispenser (ICMD). The hardware is classified CONFIDENTIAL. Releasable technical manuals for operation and maintenance are classified SECRET. Reverse engineering is not a major concern.

c. AN/APR-39A Radar Warning System—This radar signal detecting set provides warning of a radar directed air defense threat to allow appropriate countermeasures. Hardware is classified CONFIDENTIAL when programmed with U.S. threat data. Releasable technical manuals for operation and maintenance are classified CONFIDENTIAL. Releasable technical data (technical performance) are classified SECRET. The system can be programmed with threat data provided by the purchasing country.

d. AN/AVR-2B, Laser Warning Set—A passive laser warning system that receives, processes, and displays threat information resulting from aircraft illumination by lasers, on the multi-functional display. The hardware is classified CONFIDENTIAL. Releasable technical manuals for operation and maintenance are classified SECRET. Reverse engineering is not a major concern.

2. Software, hardware, and other data/information that is classified or sensitive is reviewed prior to release to protect system vulnerabilities, design data, and performance parameters. Some end-item hardware, software, and other data identified above are classified at the CONFIDENTIAL level.

3. Loss of this hardware, software, documentation and/or data could permit development of information which may lead to a significant threat to future U.S. military operations. If a technologically advanced adversary were to obtain knowledge of the specific hardware and software elements, the information could be used to develop countermeasures or equivalent systems which might reduce weapon system effectiveness or be used in the development of a system with similar or advanced capabilities.

4. A determination has been made that Saudi Arabia can provide substantially the same degree of protection for this technology as the U.S. Government. This proposed sale is necessary in furtherance of the U.S. foreign policy and national security objectives outlined in the Policy Justification.

5. All of the defense articles and services listed in this transmittal have been authorized for release and export to the Kingdom of Saudi Arabia.

[FR Doc. 2015-27504 Filed 10-28-15; 8:45 am]

BILLING CODE 5001-06-P